DEPARTMENT OF INTERIOR

Bureau of Land Management

[CA-610-5101-ER-G032; CACA-40467]

Proposed Right-of-Way for an AT&T Corp. Buried Fiber Optic Telecommunications System and Plan Amendment

AGENCY: Bureau of Land Management, California Desert District, DOI.

ACTION: Notice of Intent to Prepare an Environmental Assessment and an Amendment to the California Desert Conservation Area Plan.

SUMMARY: The Department of Interior, Bureau of Land Management (“BLM”) will prepare an Environmental Assessment for a right-of-way proposed by AT&T Corp. for a buried fiber optic telecommunications line and associated facilities. This system, running from Lamesa, Texas to Los Angeles, California, is called the AT&T-NexGen Project (“Project”). The proposed action, which crosses federal lands in the States of California, Arizona and New Mexico, will also include a proposed plan amendment to the California Desert Conservation Area (CDCA) Plan, since it specifically involves rights-of-way outside of designated utility corridors on federal lands in Riverside, Imperial, and San Diego Counties, California.

The proposed Project would consist of five links: (1) Lamesa to El Paso, Texas; (2) El Paso, Texas to Tuscon, Arizona; (3) Tucson to Phoenix, Arizona; (4) Phoenix, Arizona to San Diego, California; and (5) San Diego to Los Angeles, California. The purpose being to construct, operate and maintain a buried fiber optic telecommunications system, including signal regeneration or optical amplification stations located every 40-50 miles, between Texas and California.

The project configuration, as proposed and including measures to avoid, minimize, or mitigate impacts on the environment, is being considered along with a “No Project” alternative. The BLM has been asked to issue rights-of-way for portions of this fiber optic system that cross federal lands.

SUPPLEMENTARY INFORMATION: The California portion of this Project begins at the Point of Presence (POP) in Blythe, California, and would travel in a southwesterly direction along Highway 78 and Old Highway 80 through the following city jurisdictions: Blythe, Brawley, El Centro, El Cajon, La Mesa, and San Diego. From San Diego north to Los Angeles the route would primarily parallel the coast. In addition, the route would pass through large portions of unincorporated areas in Riverside, Imperial and San Diego Counties, and would also cross Cleveland National Forest, public lands administered by the BLM, as well as the La Posta and Campo Indian Reservations. It would require an urban build through San Diego and Los Angeles, terminating at the POP in Los Angeles, California.

The fiber optic telecommunications system project entails the design and construction of a six-duct conduit system and ancillary facilities to accommodate digital broadband Internet Protocol. Ancillary facilities would include: regeneration stations and Optical Amplification (Op Amp) Stations spaced an average of 50 miles; buried splice boxes placed at 2,500-foot intervals; and market poles placed 500 feet apart. The Project, as proposed, should contribute small to no additional impacts to the environment and would operate entirely within previously disturbed and routinely maintained road rights-of-way. The proposed alignment is shorter and thus could present fewer impacts on the environment than construction entirely within a utility corridor.

DATES: Written comments are requested on this notice concerning the scope of analysis of the Environmental Assessment. Comments must be received on or before May 30, 2000. It is important that those interested in the management of the BLM properties within the Project area provide input at this time. A Notice of Availability will be published when the Environmental Assessment is complete.

ADDRESSES: Please submit comments concerning the scope of the analysis for the Proposed AT&T Corp. Buried Fiber Optic Telecommunications System and Plan Amendment in writing to Mr. Stephen Johnson, Bureau of Land Management, California Desert District, 6221 Box Springs Boulevard, Riverside, California, 92507.

FOR FURTHER INFORMATION CONTACT: Contact Mr. Stephen Johnson at the above address or at (909) 697-5233.

Dated: April 24, 2000.
Douglas A. Romoli,
Acting District Manager.

[FR Doc. 00-10679 Filed 4-27-00; 8:45 am]

BILLING CODE 4310-40-M